DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2000, there were five applications approved. This notice also includes information on two applications, approved in October 2000, inadvertently left off the October 2000 notice. Additionally, 21 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: County of Del Norte, Crescent City, California.

Application Number: 00-02-C-00-CEC.

Application Type: Impose and use a PFC.

PFC Level: $3.00.

Total PFC Revenue Approved in this Decision: $447,048.

Earliest Charge Effective Date: January 1, 2001.

Estimated Charge Expiration Date: July 1, 2013.

Class of Air Carriers Not Required to Collect PFC's: None.

Brief Description of Projects Approved for Collection and Use:

Install replacement fuel system

Install security fencing—phase 1

Reconstruct and expand automobile parking lot

Airport layout plan update

Terminal building renovation

Environmental study (airport south development)

New terminal building—preliminary design and studies

Install security fencing—phase II

Acquire safety equipment (tractor and sweeper)

Fire suppression water lines

Install runway guidance system precision approach path indicator, runway 35

Brief Description of Project Withdrawn: Install 50,000-gallon water tank.

Determination: This project was withdrawn by the public agency from the application by letter dated October 23, 2000. Therefore, the FAA did not rule on this project in this Record of Decision.

Discussion Date: October 30, 2000.

FOR FURTHER INFORMATION CONTACT: Marlys Vandervelde, San Francisco Airports District Office, (650) 876-2806.

Public Agency: City of Elko, Nevada.

Application Number: 00-02-C-00-EKO.

Application Type: Impose and use a PFC.

PFC Level: $3.00.

Total PFC Revenue Approved in this Decision: $6,194,920.

Earliest Charge Effective Date: February 1, 2001.

Estimated Charge Expiration Date: September 1, 2018.

Class of Air Carriers Not Required to Collect PFC's: None.

Brief Description of Projects Approved for Collection and Use:

Terminal building expansion, phases II-IV

Terminal access road—phase II

Master drainage study

Commercial apron and connecting taxiways

Terminal building

Decision Date: October 30, 2000.

FOR FURTHER INFORMATION CONTACT: Marlys Vandervelde, San Francisco Airports District Office, (650) 876-2806.

Public Agency: Huntsville-Madison County Airport Authority, Huntsville, Alabama.

Application Number: 00-10-C-00-HSV.

Application Type: Impose and use a PFC.

PFC Level: $3.00.

Total PFC Revenue Approved in this Decision: $1,498,644.

Earliest Charge Effective Date: June 1, 2009.

Estimated Charge Expiration Date: April 1, 2013.

Class of Air Carriers Not Required to Collect PFC's: (1) air taxi/commercial operators; (2) certified air carriers; and (3) certified route air carriers having fewer than 500 annual passenger enplanements at Huntsville International Airport (HSV).

Determination: Approved. Based on information contained in the public agency's application, the FAA has determined that each approved class accounts for less than 1 percent of the total annual enplanements at HSV.

Brief Description of Projects Approved for Collection and Use:

Security vehicle 2000 and body armor

Taxiway C crossfield connector

Air cargo expansion III

Bag Claim expansion/terminal renovation

Air carrier apron rehabilitation

Access road rehabilitation

Decision Date: November 9, 2000.

FOR FURTHER INFORMATION CONTACT: Roderick T. Nicholson, Jackson Airports District Office, (601) 664-9884.

Public Agency: Duluth Airport Authority, Duluth, Minnesota.

Application Number: 00-04-C-00-DLH.

Application Type: Impose and use a PFC.

PFC Level: $3.00.

Total PFC Revenue Approved in this Decision: $577,702.

Earliest Charge Effective Date: December 1, 2000.

Estimated Charge Expiration Date: September 1, 2002.

Class of Air Carriers Not Required to Collect PFC'S: Non-scheduled Part 135 air taxi/commercial operators.

Determination: Approved. Based on the information in the public agency's application, the FAA has determined that the approved class accounts for less than 1 percent of the total annual enplanements at Duluth International Airport.

Brief Description of Projects Approved for Collection and Use:

Purchase snowblower (snow removal equipment).

Purchase runway sander (snow removal equipment).

Security upgrade to terminal building.

PFC consultation fees.

Brief Description of Projects Partially Approved for Collection and Use: Runway 9/27 centerline and touchdown zone lighting (design and phase I construction).

Determination: The approved amount is less than that requested because the total cost listed in the application included costs for elements of work not included in the PFC project description. The approved amount was limited to costs associated with the approved project elements.

Install runway 9/27 centerline and touchdown lighting.

Determination: The approved amount is less than that requested because the total cost listed in the application included costs for elements of work not included in the PFC project description. The approved amount was limited to costs associated with the approved project elements.

Brief Description of Disapproved Project: Design Category II instrument landing system.

Determination: The FAA has determined that activity levels under Category II conditions at Duluth International Airport do not meet the criteria for FAA establishment of a Category II instrument landing system for runway 9. Therefore, this project is disapproved.

Decision Date: November 13, 2000.

FOR FURTHER INFORMATION CONTACT: Gordon Nelson, Minneapolis Airports District Office, (612) 713-4358.

Public Agency: Chattanooga Metropolitan Airport Authority, Chattanooga, Tennessee.

Application Number: 00-03-C-00-CHA.

Application Type: Impose and use a PFC.

PFC Level: $4.50.

Total PFC Revenue Approved in this Decision: $23,427,223.

Earliest Charge Effective Date: February 1, 2005.

Estimated Charge Expiration Date: May 1, 2015.

Class of Air Carriers Not Required to Collect PFC's: (1) Air carriers operating under part 135 on an on-demand, non-scheduled, whole plane charter basis, and not selling tickets to individual passengers; (2) air carriers operating under part 298 on an on-demand, non-scheduled, whole plane charter basis, and not selling tickets to individual passengers.

Determination: Approved. Based on the information in the public agency's application, the FAA has determined each of the approved classes accounts for less than 1 percent of the total annual enplanements at Chattanooga Metropolitan Airport.

Brief Description of Projects Approved for Collection and Use:

Land acquisition—Honest Street.

Airside site work and development.

Land acquisition—Chickamauga.

Relocation of taxiway A.

Target property.

Access road—west airfield development.

Obstruction removal.

Levee improvements.

Part 150 program.

Brief Description of Projects Approved for Collection: Roadway improvements.

Decision Date: November 22, 2000.

FOR FURTHER INFORMATION CONTACT: Cager Swauncy, Memphis Airports District Office, (901) 544-3495.

Public Agency: Rhode Island Airport Corporation, Warwick, Rhode Island.

Application Number: 00-03-C-00-PVD.

Application Type: Impose and use a PFC.

PFC Level: $3.00.

Total PFC Revenue Approved in this Decision: $41,689,000.

Earliest Charge Effective Date: April 1, 2008.

Estimated Charge Expiration Date: August 1, 2012.

Class of Air Carriers Not Required to Collect PFC's: Air taxi.

Determination: Approved. Based on information contained in the public agency's application, the FAA has determined that the approved class accounts for less than 1 percent of the total annual enplanements at the T.F. Green State Airport (PVD).

Brief Description of Project Approved for Collection at PVD and Use at PVD:

Noise mitigation land acquisition.

North ramp rehabilitation.

PFC application.

Brief Description of Project Approved for Collection at PVD for Future Use at PVD:

New airfield maintenance facilities.

Ticket counter expansion.

Brief Description of Project Approved for Collection at PVD for Future Use at Westerly State Airport: Rehabilitation of apron and taxiways B and C.

Brief Description of Project Approved for Collection at PVD for Future Use at Block Island State Airport: Expansion of apron and construct taxiway to runway 10.

Brief Description of Project Approved for Collection at PVD for Future Use at North Central State Airport: Rehabilitation of apron.

Brief Description of Project Approved for Collection at PVD for Future Use at Quonset State Airport: Rehabilitation of apron.

Decision Date: November 27, 2000.

FOR FURTHER INFORMATION CONTACT: Priscilla Scott, New England Region Airports Division, (781) 238-7614.

Public Agency: Port of Friday Harbor, Friday Harbor, Washington.

Application Number: 00-01-C-00-FRD.

Application Type: Impose and use a PFC.

PFC Level: $3.00.

Total PFC Revenue Approved In This Decision: $226,806.

Earliest Charge Effective Date: February 1, 2001.

Estimated Charge Expiration Date: November 1, 2005.

Class of Air Carriers Not Required To Collect PFC'S: None.

Brief Description of Projects Approved for Collection and Use:

Purchase airport land (parcels 44, 46, and 50).

Purchase airport land (parcel 37).

Purchase airport land (parcels 47 and 49).

Storm water handling system improvements.

Runway overlay (design only).

Runway safety area improvements, runway 16/34.

Taxiway lighting and signage.

Purchase snow removal equipment.

Interactive personnel training system.

Rehabilitate runway, taxiway, and aprons.

Security fencing.

Decision Date: November 20, 2000.

FOR FURTHER INFORMATION CONTACT: Suzanne Lee-Pang, Seattle Airports District Office, (425) 227-2654.

Amendments to PFC Approvals
Amendment No. city, state | Amendment approved date | Original approved net PFC revenue | Amended approved net PFC revenue | Original estimated charge exp. date | Amendment estimated charge exp. date
92-01-1-06-HSV, Huntsville, AL | 09/13/00 | $19,930,558 | $15,353,674 | 01/01/03 | 01/01/03
97-07-U-01-HSV, Huntsville, AL | 09/13/00 | NA | NA | NA | NA
99-09-C-01-HSV, Huntsville, AL | 09/13/00 | 557,969 | 777,615 | 11-01/03 | 11/01/03
99-04-C-01-BGM, Binghamton, NY | 01/06/00 | 4,694,436 | 4,714,684 | 04/01/06 | 04/01/06
00-02-C-01-SWF, Newburgh, NY | 10/10/00 | 4,558,000 | 6,308,000 | 12/01/00 | 02/01/05
93-01-C-02-JAX, Jacksonville, FL | 10/19/00 | 12,309,429 | 11,541,949 | 07/01/97 | 08/01/96
96-02-C-02-JAX, Jacksonville, FL | 10/19/00 | 17,758,250 | 18,503,092 | 09/01/00 | 06/01/99
93-01-C-01-PVD, Warwick, RI | 11/09/00 | 103,885,286 | 104,397,014 | 08/01/13 | 11/01/07
98-03-C-03-CRW. Charleston, WV | 11/14/00 | 662,687 | 665,222 | 03/01/99 | 03/01/99
98-04-C-01-CRW. Charleston, WV | 11/14/00 | 1,257,285 | 1,253,835 | 01/01/01 | 01/01/01
98-05-U-02-CRW, Charleston, WV | 11/14/00 | NA | NA | NA | NA
00-06-C-01-CRW, Charleston, WV | 11/14/00 | 992,810 | 1,051,081 | 08/01/02 | 08/01/02
98-02-C-01-FLL, Fort Lauderdale, FL | 11/15/00 | 190,129,976 | 191,105,272 | 11/01/07 | 11/01/07
97-01-C-01-SDF. Louisville, KY | 11/15/00 | 40,000,000 | 90,600,000 | 05/01/07 | 01/01/15
*97-03-C-01-EGE, Eagle, CO | 11/17/00 | 8,132,130 | 8,132,130 | 03-01-12 | 06-01-09
95-03-C-01-SYE, Syracuse, NY | 11/12/00 | 6,239,050 | 6,737,425 | 04/01/97 | 04/01/97
96-02-C-01-SYR, Syracuse, NY | 11/21/00 | 7,887,547 | 8,019,927 | 02/01/01 | 02/01/01
98-03-U-01-SYR, Syracuse, NY | 11/21/00 | NA | NA | NA | NA
*93-01-C-02-CHA, Chattanooga, TN | 11/21/00 | 8,568,925 | 9,550,221 | 07/01/05 | 11/01/04
*99-03-C-01-ALO, Waterloo, IA | 11/27/00 | 763,830 | 763,830 | 11/01/03 | 05/01/03
*99-03-C-01-DUJ, Du Bois, PA | 11/29/00 | 172,710 | 160,109 | 06/01/03 | 2/01/03
(Note: The amendments denoted by an asterisk (*) include a change to the PFC level charged from $3.00 per enplaned passenger to $4.50 per enplaned passenger. For Eagle, CO, Chattanooga, TN, and Du Bois, PN, this change is effective on April 1, 2001. For Waterloo, IA, this change is effective on July 1, 2001.)

Issued in Washington, DC, on December 28, 2000.
Eric Gabler,
Manager, Passenger Facility Charge Branch.

[FR Doc. 01-268 Filed 1-4-01; 8:45 am]

BILLING CODE 4910-13-M